DEPARTMENT OF LABOR

Employment and Training Administration

[TA-W-74,260; TA-W-74,260A]

Xpedx, a Division of International Paper Company Including On-Site Leased Workers From Manpower, Livonia, MI; Xpedx, a Division of International Paper Company Including On-Site Leased Workers From Manpower, Grand Rapids, MI; Amended Certification Regarding Eligibility To Apply for Worker Adjustment Assistance

In accordance with Section 223 of the Trade Act of 1974, as amended (“Act”), 19 U.S.C. 2273, the Department of Labor issued a Certification of Eligibility to Apply for Worker Adjustment Assistance on January 28, 2011, applicable to workers and former workers of Xpedx, a Division of International Paper Company, including on-site leased workers from Manpower, Livonia, Michigan (subject firm). The workers are engaged in activities related to the supply of sales, distribution and warehousing services. The Notice of certification was published in the Federal Register on February 10, 2011 (76 FR 7587).

At the request of the State agency, the Department reviewed the certification for workers of the subject firm.

The Grand Rapids, Michigan location operated in conjunction with the Livonia, Michigan location; both locations are part of the overall servicing operation, serve the same customer base, and meet the criteria for secondary worker certification.

Accordingly, the Department is amending this certification to include workers of Xpedx, a Division of International Paper Company, Grand Rapids, Michigan.

The amended notice applicable to TA-W-74,260 is hereby issued as follows:

All workers of Xpedx, a Division of International Paper Company, including on-site leased workers from Manpower, Livonia, Michigan (TA-W-74,260), and Grand Rapids, Michigan (TA-W-74,260A), who became totally or partially separated from employment on or after May 26, 2009, through January 28, 2013, and all workers in the group threatened with total or partial separation from employment on date of certification through two years from the date of certification, are eligible to apply for adjustment assistance under Chapter 2 of Title II of the Trade Act of 1974, as amended.

Signed in Washington, DC this 6th day of June, 2011.
Del Min Amy Chen,
Certifying Officer, Office of Trade Adjustment Assistance.

[FR Doc. 2011-14819 Filed 6-14-11; 8:45 am]

BILLING CODE 4510-FN-P